DEPARTMENT OF THE INTERIOR

Bureau of Indian Affairs

[212A2100DD; AAKC001030; A0A51010.999900]

Land Acquisitions; Chickasaw Nation

AGENCY: Bureau of Indian Affairs, Interior.

ACTION: Notice.

SUMMARY: The Assistant Secretary—Indian Affairs made a final agency determination to transfer 248.09 acres, more or less, of land in the City of Ardmore, Carter County, Oklahoma, (Site) into trust for the Chickasaw Nation for gaming and other purposes.

DATES: This final determination was made on October 8, 2020.

FOR FURTHER INFORMATION CONTACT: Ms. Paula L. Hart, Director, Office of Indian Gaming, Bureau of Indian Affairs, MS-3543 MIB, 1849 C Street NW, Washington, DC 20240, telephone (202) 219-4066, paula.hart@bia.gov.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On the date listed in the DATES section of this notice, the Assistant Secretary—Indian Affairs issued a decision to accept the Site, consisting of 248.09 acres, more or less, of land in trust for the Chickasaw Nation (Nation), under the authority of the Indian Reorganization Act, 25 U.S.C. 5108. The Assistant Secretary—Indian Affairs determined that Nation's request also meets the requirements of the Indian Gaming Regulatory Act's “Oklahoma exception,” 25 U.S.C. 2719(a)(2)(A)(i), to the general prohibition contained in 25 U.S.C. 2719(a) on gaming on lands acquired in trust after October 17, 1988.

The Assistant Secretary—Indian Affairs, on behalf of the Secretary of the Interior, will immediately acquire title to the Site in the name of the United States of America in trust for the Nation upon fulfillment of Departmental requirements.

The 248.09 acres, more or less, are located in the City of Ardmore, Carter County, Oklahoma, and are described as follows:

The East Half (E/2) of the Southwest Quarter (SW/4) and the East 495 feet of the Northwest Quarter (NW/4) of the Southwest Quarter (SW/4) and the East Half (E/2) of the Southwest Quarter (SW/4) of the Southwest Quarter (SW/4) and the West Half (W/2) of the Northwest Quarter (NW/4) of the Southeast Quarter (SE/4) and the Southwest Quarter (SW/4) of the Southeast Quarter (SE/4) and a portion of the Southeast Quarter (SE/4) of the Northwest Quarter (NW/4) of the Southeast Quarter (SE/4) and a portion of the South Half (S/2) of the South Half (S/2) of the Northwest Quarter (NW/4), lying South of the apparent South Right-of Way line of U.S. Highway 70, Section 8, Township 5 South, Range 2 East, Indian Meridian, Carter County, Oklahoma AND the Northwest Quarter (NW/4) of the Northeast Quarter (NE/4) of Section 17, Township 5 South, Range 2 East, Indian Meridian, Carter County, Oklahoma, more particularly described as follows:

BEGINNING from the Southwest Corner of the Northwest Quarter of said Section 8;

THENCE N00°09′28″ W along the West line of the Northwest Quarter, a distance of 289.13 feet to the Southwest Corner of a Tract recorded in Book 5917 on Page 297 in the Office of the Carter County Clerk;

THENCE along the boundary of said Tract for the following Two Courses;

1. Thence N89°50′32″ E, a distance of 172.75 feet;

2. Thence N00°09′28″ W, a distance of 300.12 feet to a point on the apparent South Right-of-Way line of U.S. Highway 70;

THENCE along the apparent South Right-of-Way of U.S. Highway 70 for the following Four (4) Courses;

1. Thence along a curve turning to the Right with a radius of 21345.92 feet, with an arc length of 615.66 feet, with a delta angle of 01°39′09″, with a chord bearing of S79°16′55″ E, with a chord length of 615.64 feet;

2. Thence S78°28′33″ E, a distance of 376.09 feet;

3. Thence S89°47′10″ E, a distance of 101.98 feet;

4. Thence S78°28′34″ E, a distance of 1428.93 feet to a point on the East line of the South Half of the South Half of the Northwest Quarter;

THENCE S00°03′18″ E along the East line thereof, a distance of 138.09 feet to the Northwest Corner of the Southeast Quarter;

THENCE S89°29′02″ E along the North line of the Southeast Quarter, a distance of 665.14 feet to the Northeast Corner of the West Half of the Northwest Quarter of the Southeast Quarter;

THENCE S00°00′21″ E passing thru the Northwest Corner of the Southeast Quarter of the Northwest Quarter of the Southeast Quarter at distance of 661.46 feet and continuing for a total distance of 672.22 feet to the Southwest Corner of a Tract recorded in Book 6125 on Page 177 in the Office of the Carter County Clerk;

THENCE S89°32′34″ E along the South line of said Tract, a distance of 664.56 feet to the Southeast Corner thereof, said point being 9.66 feet South of the Northeast Corner of the Southeast Quarter of the Northwest Quarter of the Southeast Quarter;

THENCE S00°02′37″ W along the East line thereof, a distance of 1975.93 feet to the Northeast Corner of the Northwest Quarter of the Northeast Quarter of Section 17;

THENCE S00°13′41″ E, a distance of 1322.54 feet to the Southeast Corner thereof;

THENCE N89°23′58″ W, a distance of 1325.60 feet to the Southwest Corner thereof;

THENCE N00°14′03″ W, a distance of 1323.88 feet to the Southeast Corner of the Southwest Quarter of Section 8;

THENCE N89°22′20″ W, a distance of 1981.20 feet to the Southwest Corner of the East Half of the Southwest Quarter of the Southwest Quarter;

THENCE N00°08′31″ W, a distance of 1320.19 feet to the Northwest Corner thereof;

THENCE S89°25′41″ E, a distance of 166.05 feet to the Southwest Corner of the East 495 feet of the Northwest Quarter of the Southwest Quarter;

THENCE N00°06′46″ W, a distance of 1320.35 feet to the Northwest Corner thereof, said point being on the South line of the South Half of the South Half of the Northwest Quarter;

THENCE N89°29′02″ W along said South line, a distance of 828.44 feet to the POINT OF BEGINNING, containing 248.09 Acres. All bearings contained in this legal description were based upon True North. Prepared on this date, June 10, 2019 by Obert D. Bennett, RPLS No. 1471 Oklahoma. SURFACE ONLY.

Tara Sweeney,
Assistant Secretary—Indian Affairs.

[FR Doc. 2020-22666 Filed 10-13-20; 8:45 am]

BILLING CODE 4337-15-P